FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system described below.

Type of Review: Renewal of a currently approved collection.

Title: Appraisal Standards.

OMB Number: 3064-0103.

Annual Burden

Estimated annual number of respondents: 5,800.

Estimated number of responses: 328,600.

Estimated time per response 15 minutes.

Average annual burden hours 82,150 hours.

Expiration Date of OMB Clearance: October 31, 2000.

OMB Reviewer: Alexander T. Hunt, (202) 395-7860, Office of Management and Budget, Office of Information and Regulatory Affairs, Washington, D.C. 20503.

FDIC Contact: Tamara R. Manly, (202) 898-7453, Office of the Executive Secretary, Room F-4058, Federal Deposit Insurance Corporation, 550 17th Street N.W., Washington, D.C. 20429.

Comments: Comments on this collection of information are welcome and should be submitted on or before October 25, 2000 to both the OMB reviewer and the FDIC contact listed above.

ADDRESSES: Information about this submission, including copies of the proposed collection of information, may be obtained by calling or writing the FDIC contact listed above.

SUPPLEMENTARY INFORMATION: FIRREA directs the FDIC to prescribe appropriate standards for the performance of real estate appraisals in connection with Federally related transactions under its jurisdiction. The information collection activities attributable to 12 CFR Part 323 are a direct consequence of the statutory requirements and the legislative intent.

Dated: September 19, 2000.
Federal Deposit Insurance Corporation.
Robert E. Feldman,
Executive Secretary.

[FR Doc. 00-24552 Filed 9-22-00; 8:45 am]

BILLING CODE 6714-01-P